DEPARTMENT OF THE TREASURY

Internal Revenue Service

26 CFR Part 1

[REG-112994-06]

RIN 1545-BF47

Guidance Under Section 7874 Regarding Expatriated Entities and Their Foreign Parents; Correction

AGENCY: Internal Revenue Service (IRS), Treasury.

ACTION: Notice of proposed rulemaking by cross-reference to temporary regulations and notice of public hearing; correction.

SUMMARY: This document contains corrections to a correction to notice of proposed rulemaking by cross-reference to temporary regulations and notice of public hearing that was published in the Federal Register on Wednesday, August 16, 2006 (71 FR 47158) relating to the determination of whether a foreign entity shall be treated as a surrogate foreign corporation under section 7874(a)(2)(B).

FOR FURTHER INFORMATION CONTACT: Milton Cahn at (202) 622-3860 (not a toll-free number).

SUPPLEMENTARY INFORMATION:

Background

The notice of proposed rulemaking by cross-reference to temporary regulations and notice of public hearing (REG-112994-06) that is the subject of these corrections are under section 7874 of the Internal Revenue Code.

Need for Correction

As published, the notice of proposed rulemaking by cross-reference to temporary regulations and notice of public hearing (REG-112994-06) contains errors that may prove to be misleading are in need of correction.

Correction of Publication

Accordingly, the notice of proposed rulemaking by cross reference to temporary regulations and notice of public hearing (REG-112994-06), that was the subject of FR Doc. E6-13424, is corrected as follows:

1. On page 47158, column 3, in the preamble, under the paragraph heading “Correction of Publication”, numerical entry 5, lines 1-2 from the bottom of the column, the language, “Cahn at (202) 927-0889 or (202) 622-3918;” is corrected to read “Cahn at (202) 622-3860”.

2. On page 47159, column 1, in the preamble, under the paragraph heading “Correction of Publication”, numerical entry 6, line 1 from the bottom of the paragraph, the language “927-1443 (not toll-numbers)” is corrected to read “622-0392 (not toll-free numbers)”.

LaNita Van Dyke,
Acting Chief, Publications and Regulations Branch, Legal Processing Division, Associate Chief Counsel (Procedure and Administration).

[FR Doc. E6-15303 Filed 9-14-06; 8:45 am]

BILLING CODE 4830-01-P